DEPARTMENT OF THE INTERIOR

National Park Service

Notice; Continuation of Visitor Services

AGENCY: National Park Service, Interior.

ACTION: Public notice.

SUMMARY: Pursuant to the terms of existing concession contracts, public notice is hereby given that the National Park Service intends to request a continuation of visitor services for a period not-to-exceed 1 year from the date of contract expiration.

SUPPLEMENTARY INFORMATION: The contracts listed below have been extended to maximum allowable under 36 CFR 51.23. Under the provisions of current concession contracts and pending the completion of the public solicitation of a prospectus for a new concession contract, the National Park Service authorizes continuation of visitor services for a period not-to-exceed 1 year under the terms and conditions of the current contract as amended. The continuation of operation does not affect any rights with respect to selection for award of a new concession contract.

Conc ID No. | Concessioner name | Park
NACE003 | Buzzard Point Boatyard | National Capital Parks-East.
CHOH001 | Fletcher's Boat House, Inc | Chesapeake & Ohio Canal NHP.
ROCR003 | Golf Course Specialists, Inc | Rock Creek Park.
PRWI001 | Prince William Travel Trailer Village, Inc | Prince William Forest Park.

Effective Date: January 2,2005.

FOR FURTHER INFORMATION CONTACT: Jo A. Pendry, Concession Program Manager, National Park Service, Washington, DC, 20240, Telephone 202/513-7156.

Dated: December 17, 2004.
Alfred J. Poole, III,
Acting Associate Director, Administration, Business Practices and Workforce Development.

[FR Doc. 05-3340 Filed 2-18-05; 8:45 am]

BILLING CODE 4312-53-M